DEPARTMENT OF TRANSPORTATION

Federal Aviation Administration

14 CFR Part 73

[Docket No. FAA-2004-17773; Airspace Docket No. 04-ASW-11]

RIN 2120-AA66

Modification of Restricted Areas 5103A, 5103B, and 5103C, and Revocation of Restricted Area 5103D; McGregor, NM

AGENCY: Federal Aviation Administration (FAA), DOT.

ACTION: Final rule, correction.

SUMMARY: This action corrects a final rule (Airspace Docket No. 04-ASW-11) published in the Federal Register on December 13, 2004 (69 FR 72113). In that rule, the effective date was inadvertently published as January 20, 2005. The correct effective date is March 17, 2005. This action corrects that error.

DATES: 0901 UTC, March 17, 2005.

FOR FURTHER INFORMATION CONTACT: Steve Rohring, Airspace and Rules, Office of System Operations and Safety, Federal Aviation Administration, 800 Independence Avenue, SW., Washington, DC 20591; telephone: (202) 267-8783.

SUPPLEMENTARY INFORMATION: On December 13, 2004, Airspace Docket No. 04-ASW-11 (69 FR 72113), was published modifying R-5103A, R-5103B, and R-5103C, and revoking R-5103D in McGregor, NM. In that rule, the effective date was inadvertently published as January 20, 2005. The correct effective date is March 17, 2005. This action corrects that error.

Correction to Final Rule

Accordingly, pursuant to the authority delegated to me, the effective date for Airspace Docket No. 04-ASW-11, as published in the Federal Register on December 13, 2004 (69 FR 72113), is corrected as follows:

§ 73.51 [Corrected]

On page 72113, correct the effective date to read March 17, 2005.

Issued in Washington, DC, on January 11, 2005.
Edie Parish,
Acting Manager, Airspace and Rules.

[FR Doc. 05-849 Filed 1-13-05; 8:45 am]

BILLING CODE 4910-13-P